INTERNATIONAL TRADE COMMISSION

[Investigation No. 337-TA-1052]

Certain Thermoplastic-Encapsulated Electric Motors, Components Thereof, and Products and Vehicles Containing Same; Commission's Determination To Grant Complainant's Motion To Withdraw the Complaint and Deny Complainant's Motion for Vacatur; Termination of the Investigation

AGENCY: U.S. International Trade Commission.

ACTION: Notice.

SUMMARY: Notice is hereby given that the U.S. International Trade Commission has determined to grant Complainant's motion to withdraw the complaint and terminates the investigation. As a result of the Commission's determination, Order No. 7 is moot. Complainant's motion to vacate Order No. 7 is denied.

FOR FURTHER INFORMATION CONTACT: Amanda P. Fisherow, Esq., Office of the General Counsel, U.S. International Trade Commission, 500 E Street SW., Washington, DC 20436, telephone (202) 205-2737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on May 3, 2017, based on a complaint filed on behalf of Intellectual Ventures II LLC (“Complainant”) of Bellevue, Washington. 82 FR 20633 (May 3, 2017). The complaint alleges violations of section 337 based upon the importation into the United States, the sale for importation, and the sale within the United States after importation of certain thermoplastic-encapsulated electric motors, components thereof, and products and vehicles containing the same by reason of infringement of certain claims of U.S. Patent No. 7,154,200; U.S. Patent No. 7,067,944; U.S. Patent No. 7,067,952; U.S. Patent No. 7,683,509; and U.S. Patent No. 7,928,348. The complaint named as respondents Aisin Seiki Co., Ltd. of Aichi, Japan; Aisin Holdings of America, Inc. of Seymour, Indiana; Aisin Technical Center of America, Inc. of Northville, Michigan; Bayerische Motoren Werke AG of Munich, Germany; BMW of North America, LLC of Woodcliff Lake, New Jersey; BMW Manufacturing Co., LLC of Greer, South Carolina; Denso Corporation of Aichi, Japan; Denso International America, Inc. of Southfield, Michigan; Honda Motor Co., Ltd. of Tokyo, Japan; Honda North America, Inc. of Torrance, California; American Honda Motor Co., Inc. of Torrance, California; Honda of America Mfg., Inc. of Marysville, Ohio; Honda Manufacturing of Alabama, LLC of Lincoln, Alabama; Honda R&D Americas, Inc. of Torrance, California; Mitsuba Corporation of Gunma, Japan; American Mitsuba Corporation of Mount Pleasant, Michigan; Nidec Corporation of Kyoto, Japan; Nidec Automotive Motor Americas, LLC of Auburn Hills, Michigan; Toyota Motor Corporation of Aichi, Japan; Toyota Motor North America, Inc. of New York, New York; Toyota Motor Sales, U.S.A., Inc. of Torrance, California; Toyota Motor Engineering & Manufacturing North America, Inc. of Erlanger, Kentucky; Toyota Motor Manufacturing, Indiana, Inc. of Princeton, Indiana; and Toyota Motor Manufacturing, Kentucky, Inc. of Georgetown, Kentucky (collectively, “Respondents”). The Office of Unfair Import Investigations (“OUII”) is participating in the investigation.

On June 20, 2017, Respondents filed a motion to terminate the investigation on the ground that Complainant lacked standing to sue. On August 3, 2017, the ALJ issued an ID (Order No. 7) granting Respondents' motion. Specifically, the ALJ found that the Complainant does not own the asserted patents and that the Commission does not have the authority to remedy a standing defect. Order No. 7. No petitions for review were filed. On August 22, 2017, the Commission determined to extend the deadline for determining whether to review this ID until September 29, 2017. Notice of the Commission's Determination to Extend the Date for Determining Whether to Review an Initial Determination Terminating the Investigation Based on Lack of Standing (Aug. 22, 2017).

On August 15, 2017, Complainant filed a motion with the Commission to withdraw the complaint and vacate Order No. 7. Motion at 1. On August 25, 2017, Respondents and OUII each filed responses supporting withdrawal of the complaint but opposing Complainant's motion to vacate Order No. 7.

The Commission has determined to grant Complainant's motion to withdraw the complaint, and hereby terminates the investigation. As a result of the Commission's determination, Order No. 7 is moot. The Commission denies Complainant's motion to vacate Order No. 7.

The authority for the Commission's determination is contained in section 337 of the Tariff Act of 1930, as amended (19 U.S.C. 1337), and in part 210 of the Commission's Rules of Practice and Procedure (19 CFR part 210).

By order of the Commission.
Issued: September 19, 2017.
Lisa R. Barton,
Secretary to the Commission.

[FR Doc. 2017-20370 Filed 9-22-17; 8:45 am]

BILLING CODE 7020-02-P